NATIONAL FOUNDATION ON THE ARTS AND THE HUMANITIES

Institute of Museum and Library Services

Notice of Proposed Information Collection Requests: 2023-2027 IMLS Grants to States Program Five-Year State Plan Guidelines for State Library Administrative Agencies

AGENCY: Institute of Museum and Library Services, National Foundation for the Arts and the Humanities.

ACTION: Notice, request for comments on this collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. By this notice, IMLS is soliciting comments concerning a plan to continue the IMLS Grants to States Program Five-Year State Plan Guidelines for State Library Administrative Agencies instructions. Each State Library Administrative Agency (SLAA) must submit a plan that details library services goals for a five-year period to receive funding. A copy of the proposed information collection request can be obtained by contacting the individual listed below in the ADDRESSES section of this notice.

DATES: Written comments must be submitted to the office listed in the addressee section below on or before December 30, 2020.

ADDRESSES: Send comments to Connie Bodner, Ph.D., Director of Grants Policy and Management, Office of Grants Policy and Management, Institute of Museum and Library Services, 955 L'Enfant Plaza North SW, Suite 4000, Washington, DC 20024-2135. Dr. Bodner can be reached by telephone at 202-653-4636, by email at cbodner@imls.gov, or by teletype (TTY/TDD) for persons with hearing difficulty at 202-653-4614. Office hours are from 8:30 a.m. to 5 p.m., E.T., Monday through Friday, except Federal holidays.

FOR FURTHER INFORMATION CONTACT: Teresa DeVoe, Associate Deputy Director of State Programs, Office of Library Services, Institute of Museum and Library Services, 955 L'Enfant Plaza North SW, Suite 4000, Washington, DC 20024-2135. Ms. DeVoe can be reached by telephone at 202-653-4778, by email at tdevoe@imls.gov, or by teletype (TTY/TDD) for persons with hearing difficulty at 202-653-4614. Office hours are from 8:30 a.m. to 5 p.m., E.T., Monday through Friday, except Federal holidays.

SUPPLEMENTARY INFORMATION: IMLS is particularly interested in public comment that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of Federal support for the Nation's libraries and museums. We advance, support, and empower America's museums, libraries, and related organizations through grant making, research, and policy development. Our vision is a nation where museums and libraries work together to transform the lives of individuals and communities. To learn more, visit www.imls.gov.

II. Current Actions

The Grants to States program is the largest grant program administered by IMLS, providing financial assistance to develop library services throughout the States, U.S. Territories, and the Freely Associated States. To receive funds under the Grants to States program, each established State Library Administrative Agency (SLAA) must submit to the Director of IMLS a Five-Year State Plan detailing certain goals, assurances, and procedures for a five-year period. 20 U.S.C. 9134(a). The upcoming five-year period will cover federal fiscal years 2023-2027, with Five-Year State Plans due to IMLS on June 30, 2022. Guidelines for the Five-Year State Plans have already been developed and approved by OMB, and this update to the guidelines will incorporate the latest language from the revised Museum and Library Services Act of 2018. This language does not substantively change the guidelines but reflects minor updates to the purposes of the LSTA, to which the SLAAs must adhere when creating goals for the new Five-Year State Plans.

The Five-Year State Plan identifies a State's library needs, sets forth the activities to be taken toward meeting the identified needs supported with the assistance of Federal funds made available under the Library Services and Technology Act (“LSTA”), and provides assurances that the officially designated SLAA has the fiscal and legal authority and capability to administer all aspects of any award under the Grants to States program. 20 U.S.C. 9122(5). The Five-Year State Plan must also provide assurances for establishing the State's policies, priorities, criteria and procedures necessary to the implementation of all programs under the LSTA. 20 U.S.C. 9122(5).

This action is to renew the forms and instructions for the IMLS Grants to States Program Five-Year State Plan Guidelines for State Library Administrative Agencies for the next three years.

Agency: Institute of Museum and Library Services.

Title: 2023-2027 IMLS Grants to States Program Five-Year State Plan Guidelines for State Library Administrative Agencies.

OMB Number: 3137-0029.

Frequency: Once every five years.

Affected Public: State Library Administrative Agencies (SLAAs).

Number of Respondents: 59.

Estimated Average Burden per Response: 90 hours.

Estimated Total Annual Burden: 5,310 hours.

Total Annualized Capital/Startup Costs: n/a.

Total Annual Costs: $158,078.70.

Public Comments Invited: Comments submitted in response to this notice will be summarized and/or included in the request for OMB's clearance of this information collection.

Dated: October 29, 2020.
Kim Miller,
Senior Grants Management Specialist, Institute of Museum and Library Services.

[FR Doc. 2020-24347 Filed 11-2-20; 8:45 am]

BILLING CODE 7036-01-P